DEPARTMENT OF JUSTICE

[OMB Number 1140-0019]

Agency Information Collection Activities; Proposed eCollection eComments Requested; Extension Without Change, of a Previously Approved Collection Federal Firearms License (FFL) RENEWAL Application

AGENCY: Bureau of Alcohol, Tobacco, Firearms and Explosives, Department of Justice.

ACTION: Correction 60-day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until December 7, 2015.

FOR FURTHER INFORMATION CONTACT: If you have comments especially on the estimated public burden or associated response time, suggestions, or need a copy of the proposed information collection instrument with instructions or additional information, Tracey Robertson, tracey.robertson@atf.gov Chief, Federal Firearms Licensing Center, 244 Needy Road, Martinsburg, WV 20226.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension without change of a currently approved collection.

2. The Title of the Form/Collection: Federal Firearms License (FFL) RENEWAL Application.

3. The agency form number, if any, and the applicable component of the Department sponsoring the collection: Form Number: ATF F 8 (5310.11) Part 11.

4. The applicable component within the Department of Justice is the Bureau of Alcohol, Tobacco, Firearms and Explosives.

5. Affected public who will be asked or required to respond, as well as a brief abstract: Primary: Business or other for-profit. Other: Individual or households. The form is filed by the licensee desiring to renew a Federal firearms license. It is used to identify the applicant, locate the business/collection premises, identify the type of business/collection activity, and determine the eligibility of the applicant.

6. An estimate of the total number of respondents and the amount of time estimated for an average respondent to respond: An estimate of the total number of respondents and the amount of time estimated for an average respondent to respond: It is estimated that 30,000 respondents will complete a 30-minute form.

7. An estimate of the total public burden (in hours) associated with the collection: The estimated public burden associated with this collection is 15,000 hours. It is estimated that respondents will take .50 or 30 minutes to complete a questionnaire. The burden hours for collecting respondent data sum to 30,000 (30,000 respondents × .50 hours = 15,000 hours).

If additional information is required contact: Jerri Murray, Department Clearance Officer, United States Department of Justice, Justice Management Division, Policy and Planning Staff, Two Constitution Square, 145 N Street NE., 3E.405B, Washington, DC 20530.

Dated: September 25, 2015.
Jerri Murray,
Department Clearance Officer for PRA, U.S. Department of Justice.

[FR Doc. 2015-25620 Filed 10-7-15; 8:45 am]

BILLING CODE 4410-FY-P